TENNESSEE VALLEY AUTHORITY

Sunshine Act Meetings

TIME AND DATE: 9:30 a.m. on November 14, 2019.

PLACE: The Halloran Centre for Performing Arts & Education, 225 S Main Street, Memphis, Tennessee.

STATUS: Open.

MATTERS TO BE CONSIDERED:

Meeting No. 19-04

The TVA Board of Directors will hold a public meeting on November 14, 2019, at the Halloran Centre for Performing Arts & Education, 225 S Main Street, Memphis, Tennessee. The meeting will be called to order at 9:30 a.m. CT to consider the agenda items listed below. TVA management will answer questions from the news media following the Board meeting.

On November 13, the public may comment on any agenda item or subject at a board-hosted public listening session which begins at 3:30 p.m. CT and will last until 5:30 p.m. Preregistration is required to address the Board.

Agenda

1. Approval of minutes of the August 22, 2019, Board Meeting

2. Report from President and CEO

3. Report of the Finance, Rates, and Portfolio Committee

A. Contracts Delegation

4. Report of the People and Performance Committee

A. Fiscal Year 2019 Performance and Compensation

B. CEO Compensation for Fiscal Year 2020

5. Report of the Audit, Risk, and Regulation Committee

6. Report of the Nuclear Oversight Committee

7. Report of the External Relations Committee

8. Chair Report

A. Committee Assignments

CONTACT PERSON FOR MORE INFORMATION: For more information: Please call Jim Hopson, TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 7, 2019.
Sherry A. Quirk,
General Counsel.

[FR Doc. 2019-24751 Filed 11-12-19; 11:15 am]

BILLING CODE 8120-08-P